SMALL BUSINESS ADMINISTRATION

Request for Nominations; Invention, Innovation, and Entrepreneurship Advisory Committee

AGENCY: U.S. Small Business Administration (SBA).

ACTION: Solicitation of nominations.

SUMMARY: The SBA Office of Investment and Innovation is issuing this notice to solicit nominations of current or former small business owner, community leader, official from a small business trade association or academic institution, or member of the innovation community to be considered for appointment by the SBA Administrator as a member of the Invention, Innovation, and Entrepreneurship Advisory Committee (IIEAC). The Committee serves as an independent source to provide information, advice, and recommendations to the Administrator on matters broadly related the U.S. startup and small business innovation ecosystem, and more specifically supporting innovation across the U.S.; developing and/or evolving SBA programs and services to address commercialization hurdles; addressing vulnerabilities and gaps in funding domestic invention and innovation; facilitating and enabling broad access and participation in Federal innovation support and funding programs.

DATES: Nominations for membership on the IIEAC will be accepted on a rolling basis. After initial committee member selection, membership will be filled as positions become available.

ADDRESSES: All nominations should be emailed to IIEAC@sba.gov with the subject line: IIEAC Nomination.

FOR FURTHER INFORMATION CONTACT: Nathaniel Putnam, Policy Analyst, Office of Investment and Innovation, (202)714-1632, IIEAC@sba.gov.

SUPPLEMENTARY INFORMATION: The Committee is tasked with examining the issues, challenges, and obstacles facing U.S. innovation economy stakeholders in these subject areas. Nominations of qualified candidates are being sought to fill vacancies on the IIEAC. IIEAC members are appointed by and serve at the pleasure of the SBA Administrator for terms of no longer than two years. IIEAC members serve without compensation but will be reimbursed for authorized travel-related expenses at per diem rates established by GSA when asked to perform official duties as an IIEAC member.

The SBA is seeking nominations from members of the public.

Qualifications

The requirements for nominations to the IIEAC include:

○ Current or former small business owner;

○ Community leader;

○ Official from a small business trade association or academic institution;

○ Member of the innovation community.

Nomination Process

Nominees should send a letter of self-nomination or a letter of nomination from a peer, professional organization, society, or member of Congress. The letter should highlight accomplishments and experience working with small businesses in relevant subject matter areas relating to innovation and investment. Along with the Nominee Information Form and resume, nominees should include the following:

• Full name of nominee

• Occupation

• Physical address

• Telephone number

• Email address

Please email all nomination information to IIEAC@sba.gov.

Authority: The Invention, Innovation, and Entrepreneurship Advisory Committee (IIEAC) is a discretionary advisory committee permitted by section 8(b)(13) of the Small Business Act (15 U.S.C. 637(b)) and was created at the discretion of the SBA Administrator. The Committee is being established in accordance with the provisions of theFederal Advisory Committee Act,as amended, 5 U.S.C. app.

Dated: November 9, 2022.
Andrienne Johnson,
Committee Management Officer.

[FR Doc. 2022-24842 Filed 11-14-22; 8:45 am]

BILLING CODE 8026-09-P